DEPARTMENT OF COMMERCE

Bureau of Industry and Security

Membership of the Bureau of Industry and Security Performance Review Board

AGENCY: Bureau of Industry and Security, Department of Commerce.

ACTION: Notice of Membership on the Bureau of Industry and Security's Performance Review Board Membership.

SUMMARY: In accordance with 5 U.S.C. 4314(c)(4), the Bureau of Industry and Security (BIS), Department of Commerce (DOC), announce the appointment of those individuals who have been selected to serve as members of BIS's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

DATES: The period of appointment for those individuals selected for BIS's Performance Review Board begins on October 17, 2011.

FOR FURTHER INFORMATION CONTACT: Ruthie B. Stewart, Department of Commerce Human Resources Operations Center (DOCHROC), Office of Staffing, Recruitment, and Classification/Executive Resources Operations, 14th and Constitution Avenue, NW., Room 7419, Washington, DC 20230, at (202) 482-3130.

SUPPLEMENTARY INFORMATION: In accordance with 5 U.S.C. 4314(c)(4), the Bureau of Industry and Security (BIS), Department of Commerce (DOC), announce the appointment of those individuals who have been selected to serve as members of BIS's Performance Review Board. The Performance Review Board is responsible for (1) reviewing performance appraisals and rating of Senior Executive Service (SES) members and (2) making recommendations to the appointing authority on other performance management issues, such as pay adjustments, bonuses and Presidential Rank Awards for SES members. The appointment of these members to the Performance Review Board will be for a period of twenty-four (24) months.

DATES: The period of appointment for those individuals selected for BIS's Performance Review Board begins on October 17, 2011. The name, position title, and type of appointment of each member of BIS's Performance Review Board are set forth below by organization:

Department of Commerce, Office of the Secretary

Michael A. Levitt, Assistant General Counsel for Legislation and Regulations, Office of General Counsel, Career SES.

Department of Commerce, Bureau of Industry and Security

Daniel O. Hill, Deputy Under Secretary, Career SES, Chairperson.

Matthew S. Borman, Deputy Assistant Secretary for Export Administration, Career SES.

Gay Shrum, Chief Financial Officer and Director of Administration, Career SES.

Donald G. Salo, Deputy Assistant Secretary for Export Enforcement, Career SES, (New Member).

Dated: October 11, 2011.
Susan Boggs,
Director, Office of Staffing, Recruitment, and Classification, Department of Commerce Human Resources Operations Center.

[FR Doc. 2011-26740 Filed 10-14-11; 8:45 am]

BILLING CODE 3510-25-P